DEPARTMENT OF THE INTERIOR

Minerals Management Service

Minerals Management Service Request for Public Nominations to the Royalty Policy Committee

AGENCY: Minerals Management Service, Interior.

ACTION: Request for Nominations.

SUMMARY: The Director of the Minerals Management Service (MMS) is requesting nominations for three public representatives to serve on the Department's Royalty Policy Committee (RPC). These nominations may originate from State and local governments, universities, organizations, or individuals, and they may include self-nominations.

DATES: Submit nominations on or before August 15, 2008.

ADDRESSES: Submit nominations to Gina Dan, Coordinator, Royalty Policy Committee, Minerals Revenue Management, Minerals Management Service, P. O. Box 25165 Mail Stop 300B2, Denver, Colorado 80225-0165.

FOR FURTHER INFORMATION CONTACT: Gina Dan, Office of the Deputy Associate Director, Minerals Revenue Management, Minerals Management Service, Denver, Colorado 80225-0165, telephone (303) 231-3392.

SUPPLEMENTARY INFORMATION: Nominees should have the expertise in royalty management issues necessary to represent the public interest. The nomination package must include an updated copy of the nominee's resume or biography including their mailing and e-mail addressees.

The MMS is committed to the Department's diversity policy, and nominators are requested to consider diversity when making nominations. Members serve without pay but will be reimbursed for travel expenses incurred when attending official RPC meetings. Reimbursements will be calculated in accordance with the Federal Travel Regulations as implemented by the Department.

The RPC provides advice related to the performance of discretionary functions under the laws governing the Department of the Interior's management of Federal and Indian mineral leases and revenues. The RPC reviews and comments on revenue management and other mineral-related policies and provides a forum to convey views representative of mineral lessees, operators, revenue payors, revenue recipients, governmental agencies, and the interested public. The location and dates of future RPC meetings and other information will be published in the Federal Register and posted on the Internet at http://www.mrm.mms.gov/Laws_R_D/RoyPC/RoyPC.htm. Meetings are open to the public without advance registration, on a space-available basis. The public may make statements during the meetings, to the extent time permits, and file written statements with the RPC for its consideration. Copies of these written statements should be submitted to Ms. Dan. The RPC meetings are conducted under the authority of the Federal Advisory Committee Act (Pub. L. 92-463, 5 U.S.C., Appendix 1) and the Office of Management and Budget (Circular No. A-63, revised).

All correspondence, records, or information received in response to this Notice may be subject to disclosure under the Freedom of Information Act. In your submittal, please highlight any proprietary portions or mark any page(s) that might contain proprietary data. Proprietary information may be protected by the Freedom of Information Act (5 U.S.C. 552(b)(4), the Department regulations (43 CFR part 2), and the Trade Secrets Act (18 U.S.C. 1905).

Dated: July 9, 2008.
Richard J. Adamski,
Acting Associate Director for Minerals Revenue Management.

[FR Doc. E8-17162 Filed 7-25-08; 8:45 am]

BILLING CODE 4310-MR-P